DEPARTMENT OF TRANSPORTATION

Research and Special Programs Administration

Office of Hazardous Materials Safety; Notice of Applications for Modification of Exemption

AGENCY: Research and Special Programs Administration, DOT.

ACTION: List of Applications for Modification of Exemption.

SUMMARY: In accordance with the procedures governing the application for, and the processing of, exemptions from the Department of Transportation's Hazardous Material Regulations (49 CFR part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” demote a modification request. Their applications have been separated from the new application for exemption to facilitate processing.

DATES: Comments must be received on or before April 12, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with Part 107 of the Federal hazardous materials transportation law (49 U.S.C. 5117(b); 49 CFR 1.53(b)).

Issued in Washington, DC, on March 23, 2004.
R. Ryan Posten,
Exemptions Program Officer, Office of Hazardous Materials Exemptions & Approvals.

Modification Exemptions—February 2004
Application number | Docket number | Applicant | Modification of exemption | Nature of exemption thereof
8495-M |  | Kidde Aerospace Wilson, SC | 8495 | To modify the exemption to clarity and authorize the use of the service pressure to determine the maximum allowable sidewall stress for the non-DOT specification cylinders.
7280-M |  | Department of Defense, Ft. Eustis, VA | 7280 | To modify the exemption to authorize the use of 5,000 or 7,500 gallon fuel-servicing tanker semi-trailers and the transportation of Class 3 and additional Class 9 materials.
9894-M |  | Luxfer Gas Cylinders, Riverside, CA | 9894 | To modify the exemption to authorize the transportation of additional Division 2.2 materials in non-DOT specification fiber reinforced plastic hoop wrapped cylinders.
11043-M |  | Onyx Environmental Services, L.L.C., Ledgewood, NJ | 11043 | To modify the exemption to authorize the transportation of Division 2.1 materials on the same transport vehicle with Class 3, 4, 5, and 8 materials.
11440-M |  | PPG Industries, Inc., Pittsburgh, PA | 11440 | To modify the exemption to authorize the use of wooden pallets for the transportation of Division 6.1 materials in polyethylene drums or composite packaging.
12122-M | RSPA-98-4313 | ARC Automotive, Inc., Knoxville, TN | 12122 | To modify the exemption to authorize an increase of the maximum service pressure to 8,000 psig at 70 degrees F for the non-DOT specification pressure vessels for use as components of automobile vehicle safety systems.
12844-M | RSPA-01-10753 | Delphi Automotive Systems, Vandalia, OH | 12844 | To modify the exemption to authorize an increase of maximum service pressure from 5,000 to 6,000 psig for the non-DOT specification pressure vessels used as components of automobile vehicle safety systems.
12899-M | RSPA-02-11387 | Pencor Reservoir Fluid Specialists, Broussard, LA | 12899 | To modify the exemption to authorize the use of an optional pressure compensating end cap closure for the non-DOT specification oil well sampling cylinders.
13221-M | RSPA-03-14967 | Toxco, Inc., Oak Ridge, TN | 13221 | To modify the exemption to authorize bulk containers to be shipped in sealed freight containers and increase the number of authorized non-bulk containers to 83 for the transportation of Division 4.3 materials.
13305-M | RSPA-03-16420 | Matheson Tri-Gas, East Rutherford, NJ | 13305 | To modify the exemption to authorize the one-way transportation, for cleaning and final disposition, of older DOT Specification 5A drums containing a Division 4.3 material.
13323-M | RSPA-03-16488 | Integrated Ocean Drilling Program/Texas A&M University (Former Grantee: Ocean Drilling Program/Texas A&M University), College Station, TX | 13323 | To reissue the exemption originally issued on an emergency basis for the transportation of a Division 2.1 material in non-DOT specification cylinders.
12135-M | RSPA-98-4418 | Daicel Safety Systems, Inc., Washington, DC | 12135 | To modify the exemption to authorize an increase in the maximum allowable service pressure for the non-DOT specification pressure vessels from 4560 PSIG to 8990 PSIG.

[FR Doc. 04-6865 Filed 3-25-04; 8:45 am]

BILLING CODE 4909-60-M